FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201301.

Agreement Name: “K” Line/Liberty Global Logistics LLC U.S./Japan Car Carrier Space Charter Agreement.

Parties: Kawasaki Kisen Kaisha, Ltd. and Liberty Global Logistics LLC.

Filing Party: John Meade; “K” Line America, Inc.

Synopsis: The Agreement authorizes the Parties to charter space to/from one another in the trade between Japan and the U.S.

Proposed Effective Date: 5/8/2019.

Location: https://www2.fmc.gov/FMC.Agreements.Web/Public/AgreementHistory/22396.

Agreement No.: 201302.

Agreement Name: “K” Line/Liberty Global Logistics LLC U.S./Middle East Car Carrier Space Charter Agreement.

Parties: Kawasaki Kisen Kaisha, Ltd. and Liberty Global Logistics LLC.

Filing Party: John Meade; “K” Line America, Inc.

Synopsis: The Agreement authorizes the Parties to charter space to/from one another in the trade between the U.S. and the Middle East.

Proposed Effective Date: 5/9/2019.

Location: https://www2.fmc.gov/FMC.Agreements.Web/Public/AgreementHistory/22397.

Agreement No.: 201303.

Agreement Name: “K” Line/Liberty Global Logistics LLC U.S./Mexico Car Carrier Space Charter Agreement.

Parties: Kawasaki Kisen Kaisha, Ltd. and Liberty Global Logistics LLC.

Filing Party: John Meade; “K” Line America, Inc.

Synopsis: The Agreement authorizes the Parties to charter space to/from one another in the trade between Mexico and the U.S. East Coast.

Proposed Effective Date: 5/9/2019.

Location: https://www2.fmc.gov/FMC.Agreements.Web/Public/AgreementHistory/22398.

Agreement No.: 201304.

Agreement Name: “K” Line/Liberty Global Logistics LLC U.S./Belgium/Germany Car Carrier Space Charter Agreement.

Parties: Kawasaki Kisen Kaisha, Ltd. and Liberty Global Logistics LLC.

Filing Party: John Meade; “K” Line America, Inc.

Synopsis: The Agreement authorizes the Parties to charter space to/from one another in the trade between Belgium and Germany on the one hand, and the U.S. East Coast on the other hand.

Proposed Effective Date: 5/9/2019.

Location: https://www2.fmc.gov/FMC.Agreements.Web/Public/AgreementHistory/22399.

Dated: May 10, 2019.
Rachel Dickon,
Secretary.

[FR Doc. 2019-10055 Filed 5-14-19; 8:45 am]

BILLING CODE 6731-AA-P